DEPARTMENT OF COMMERCE

National Oceanic and Atmospheric Administration

[I.D. 083101E]

Marine Mammals; File No. 782-1645

AGENCY: National Marine Fisheries Service (NMFS), National Oceanic and Atmospheric Administration (NOAA), Commerce.

ACTION: Issuance of permit.

SUMMARY: Notice is hereby given that The National Marine Mammal Laboratory, Alaska Fisheries Science Center, 7600 Sand Point Way, N.E., BIN C15700, Seattle, WA 98115 (PI: Dr. Robert DeLong) has been issued a permit to take harbor porpoise (Phocoena phocoena) for purposes of scientific research.

ADDRESSES: The permit and related documents are available for review upon written request or by appointment in the following office(s):

Permits and Documentation Division, Office of Protected Resources, NMFS, 1315 East-West Highway, Room 13705, Silver Spring, MD 20910; phone (301) 713-2289; fax (301) 713-0376; and

Northwest Region, NMFS, 7600 Sand Point Way NE, BIN C15700, Bldg. 1, Seattle, WA 98115-0700; phone (206) 526-6150; fax (206) 526-6426.

FOR FURTHER INFORMATION CONTACT: Ruth Johnson or Tammy Adams, (301) 713-2289.

SUPPLEMENTARY INFORMATION: On July 31, 2001, notice was published in the Federal Register (66 FR 39493) that a request for a scientific research permit to take harbor porpoise had been submitted by the above-named organization. The requested permit has been issued under the authority of the Marine Mammal Protection Act of 1972, as amended (16 U.S.C. 1361 et seq.), and the Regulations Governing the Taking and Importing of Marine Mammals (50 CFR part 216).

Dated: September 4, 2001.
Eugene T. Nitta,
Acting Chief, Permits and Documentation Division, Office of Protected Resources, National Marine Fisheries Service.

[FR Doc. 01-22641 Filed 9-7-01; 8:45 am]

BILLING CODE 3510-22-S